OFFICE OF PERSONNEL MANAGEMENT

Excepted Service

AGENCY: U.S. Office of Personnel Management (OPM).

ACTION: Notice.

SUMMARY: This notice identifies Schedule A, B, and C appointing authorities applicable to a single agency that were established or revoked from October 1, 2016 to October 31, 2016.

FOR FURTHER INFORMATION CONTACT: Senior Executive Resources Services, Senior Executive Service and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No schedule A authorities to report during October 2016.

Schedule B

No schedule B authorities to report during October 2016.

The following Schedule C appointing authorities were approved during October 2016.

Agency name | Organization name | Position title | Authorization No. | Effective date
Department of Agriculture | Office of Communications | Advance Associate | DA160178 | 10/07/2016
| Risk Management Agency | Senior Advisor | DA160179 | 10/07/2016
Department of Commerce | Office of Director General of the United States and Foreign Commercial Service and Assistant Secretary for Global Markets | Special Advisor | DC160209 | 10/04/2016
| Office of the Under Secretary | Special Assistant | DC160207 | 10/06/2016
| Office of Executive Secretariat | Deputy Director | DC170001 | 10/12/2016
| Office of Assistant Secretary and Director General for United States and Foreign Commercial Service | Senior Advisor | DC160210 | 10/13/2016
| Bureau of Industry and Security | Chief of Staff | DC170007 | 10/27/2016
| Office of Assistant Secretary for Industry and Analysis | Senior Advisor | DC170006 | 10/28/2016
|  | Director, Office of Advisory Committees and Industry Outreach | DC170008 | 10/28/2016
Department of Defense | Washington Headquarters Services | Defense Fellow (2) | DD160194 | 10/14/2016
|  |  | DD160195 | 10/14/2016
| Office of the Under Secretary of Defense (Policy) | Special Assistant for Afghanistan, Pakistan and Central Asia | DD160192 | 10/31/2016
| Office of the Secretary of Defense | Special Assistant (Personnel & Readiness) | DD170006 | 10/31/2016
Department of Energy | Office of Assistant Secretary for Congressional and Intergovernmental Affairs | Special Advisor (2) | DE160165 | 10/04/2016
|  |  | DE170012 | 10/31/2016
| Office of Management | Special Assistant | DE160167 | 10/04/2016
| Office of Assistant Secretary for Energy Efficiency and Renewable Energy | Special Advisor for Stakeholder Engagement | DE170001 | 10/07/2016
| Office of Energy Policy and Systems Analysis | Director of the Quadrennial Energy Review Secretariat | DE160166 | 10/12/2016
| Office of the Secretary | White House Liaison and Senior Advisor | DE160169 | 10/14/2016
| Office of Assistant Secretary for Fossil Energy | Special Advisor | DE170003 | 10/26/2016
Environmental Protection Agency | Office of the Associate Administrator for Congressional and Intergovernmental Relations | Senior Advisor for Congressional and Intergovernmental Relations | EP170001 | 10/26/2016
Department of Health and Human Services | Office of the Assistant Secretary for Public Affairs | Director of Specialty Communications and Spokesperson | DH170002 | 10/13/2016
|  | Press Assistant | DH170011 | 10/27/2016
|  | Press Secretary and Special Advisor | DH170004 | 10/14/2016
| Office for Civil Rights | Special Advisor | DH170006 | 10/14/2016
|  | Senior Advisor for Operations | DH170010 | 10/27/2016
| Office of the Assistant Secretary for Preparedness and Response | Senior Advisor | DH170009 | 10/18/2016
Department of Housing and Urban Development | Office of Public and Indian Housing | Special Advisor | DU170001 | 10/06/2016
| Office of the Secretary | Deputy White House Liaison | DU170002 | 10/18/2016
Department of the Interior | Bureau of Ocean Energy Management | Advisor | DI160095 | 10/03/2016
| Office of Congressional and Legislative Affairs | Special Assistant | DI160096 | 10/14/2016
| Secretary's Immediate Office | Special Assistant | DI170001 | 10/14/2016
Department of Labor | Veterans Employment and Training Service | Special Assistant | DL160133 | 10/04/2016
| Office of Public Affairs | Special Assistant | DL160128 | 10/07/2016
| Office of Congressional and Intergovernmental Affairs | Legislative Officer | DL170001 | 10/21/2016
Office of Management and Budget | Office of E-Government and Information Technology | Program Analyst | BO170001 | 10/07/2016
Department of Transportation | Immediate Office of the Administrator | Director of Governmental, International and Public Affairs | DT170011 | 10/28/2016
| Office of Assistant Secretary for Budget and Programs | Special Assistant | DT170008 | 10/31/2016
Department of the Treasury | Office of Assistant Secretary (Legislative Affairs) | Special Advisor | DY170001 | 10/06/2016

The following Schedule C appointing authorities were revoked during October 2016.

Agency name | Organization name | Position title | Request No. | Date vacated
Department of Agriculture | Farm Service Agency | State Executive Director—Oklahoma | DA160015 | 10/01/2016
Department of Commerce | Office of Deputy Assistant Secretary for Domestic Operations | Special Advisor | DC150167 | 10/15/2016
| Office of Director General of the United States and Foreign Commercial service and Assistant Secretary for Global Markets | Special Advisor (2) | DC150149 | 10/15/2016
|  |  | DC140119 | 10/29/2016
| Office of Public Affairs | Deputy Director of Public Affairs and Director of Digital Strategy and Engagement | DC160007 | 10/21/2016
| Office of Assistant Secretary for Industry and Analysis | Deputy Director, Office of Advisory Committees and Industry Outreach | DC160053 | 10/29/2016
|  | Director, Office of Advisory Committees and Industry Outreach | DC160041 | 10/29/2016
| Office of the Secretary | Senior Advisor | DC160111 | 10/29/2016
Department of Education | Office of Planning, Evaluation and Policy Development | Policy Advisor | DB160100 | 10/07/2016
Department of Energy | Office of the Assistant Secretary for Nuclear Energy | Senior Advisor | DE150129 | 10/14/2016
| Office of the Secretary | White House Liaison | DE160043 | 10/15/2016
| Office of the Assistant Secretary for International Affairs | Chief of Staff | DE160004 | 10/22/2016
Department of Health and Human Services | Administration for Children and Families | Confidential Assistant | DH150172 | 10/03/2016
Department of Housing and Urban Development | Office of Housing | Special Assistant | DU160007 | 10/15/2016
Department of Justice | Executive Office for United States Attorneys | Counsel | DJ160063 | 10/31/2016
National Aeronautics and Space Administration | Office of Legislative and Intergovernmental Affairs | Legislative Affairs Specialist | NN150068 | 10/15/2016
National Endowment for the Arts | Office of Congressional Affairs | Special Assistant for Congressional Affairs/Council Operations | NA150006 | 10/24/2016
Department of Transportation | Immediate Office of the Administrator | Director of Governmental, International and Public Affairs | DT150041 | 10/15/2016
|  | Special Assistant to the Administrator | DT160007 | 10/29/2016
| Office of the Assistant Secretary for Transportation Policy | Deputy Assistant Secretary for Transportation Policy | DT160014 | 10/29/2016
| Office of the Secretary | Director of Scheduling | DT160008 | 10/29/2016

Authority: 5 U.S.C. 3301 and 3302; E.O. 10577, 3 CFR, 1954-1958 Comp., p. 218.

U.S. Office of Personnel Management.
Kathleen M. McGettigan,
Acting Director.

[FR Doc. 2017-03225 Filed 2-16-17; 8:45 am]

BILLING CODE 6325-39-P